DEPARTMENT OF THE INTERIOR

National Park Service

[N6631; NPS-WASO-NAGPRA-NPS0041364; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of unassociated funerary objects, sacred objects, and/or objects of cultural patrimony and that have a cultural affiliation with the Indian Tribes or Native Hawaiian organizations in this notice.

DATES: Repatriation of the cultural items in this notice may occur on or after January 15, 2026.

ADDRESSES: Send written requests for repatriation of the human remains and associated funerary objects in this notice to Megan Murphy, University of California, Riverside, 900 University Avenue, Riverside, CA 92517-5900, megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of 19 cultural items have been requested for repatriation. The 19 objects of cultural patrimony are four lots of ceramics, four lots of lithics, one lot of manos, one lot of botanical materials, one lot of charcoal, two lots of faunal bone, one lot of shell beads, one lot of unmodified shell, two lots of geological materials, one lot of fire affected rock, and one lot of glass.

In 1986, the University of California, Riverside Archaeological Research Unit (UCR-ARU) was contracted by a private development firm to conduct an archaeological resources assessment of a parcel of land in the Sage area of Riverside County ahead of the proposed construction of residential properties. A field survey was conducted, which located archaeological site CA-RIV-3025. A test excavation, followed by a more intensive data collection excavation of the site resulted in the removal of approximately 263 cultural items including animal bone, ceramic sherds, lithics, shell beads, and unmodified shell, which were housed at UCR under accession number 115. Archaeological site CA-RIV-3025 is located near the Cahuilla Valley, known as Pawi to the Cahuilla people. It is an important part of their ancestral landscape and cultural objects removed from the region are considered to be Objects of Cultural Patrimony.

In 1987, the University of California, Riverside Archaeological Research Unit (UCR-ARU) was contracted by the Sage Ranch Nursery to conduct an archaeological resources assessment of the ranch ahead of further property development. During the survey several new sites were recorded and cultural objects were collected from CA-RIV-3186 and CA-RIV-3197. Archaeological site CA-RIV-3186 was described by archaeologists as a scatter of artifacts and milling features, while CA-RIV-3197 was described as milling features and a midden deposit. Archaeologists collected several pottery sherds from the surface of both sites, but did not do any excavation or major data collection. Those ceramic sherds were housed at UCR under Accession number 124. In 2025, tribal representatives identified the ceramic sherds as being Objects of Cultural Patrimony. The sites are located near Cahuilla Valley, which is known to the Cahuilla people as Pawi. It is an important part of their ancestral landscape and cultural objects removed from the region are considered to Objects of Cultural Patrimony.

In 1987, the University of California, Riverside Archaeological Research Unit (UCR-ARU) was contracted by a private property owner to evaluate the extent of two previously recorded archaeological sites on his property. The property is located in Terwilliger Valley in the slopes leading up to Table Mountain in southwest Riverside County, California. Archaeological site CA-RIV-1628 was located during a previous archaeological investigation and CA-RIV-3279 was located during the UCR-ARU project. Archaeologists described a large bedrock milling slick at CA-RIV-1628 and a cache of heating stones at CA-RIV-3279. They collected approximately 173 items including ceramics and lithic artifacts, which were subsequently housed under UCR accession number 125. In 2025, tribal representatives identified the ceramic sherds and lithic objects as being Objects of Cultural Patrimony. The region in which the sites are located is known to be part of the ancestral landscape of the Cahuilla people and cultural objects removed from the region are considered to be Objects of Cultural Patrimony.

In 2022, the UCR NAGPRA Program staff discovered a small collection of items in the UCR archaeological collections labelled “Noah Cary Ranch, 1968”. The materials included pottery sherds, charcoal, botanical materials, fire affected rock, faunal bone, and glass. UCR NAGPRA Program staff could not find any records in the UCR Archaeological Research Unit files that described how the materials came to be at UCR, but the collection was assigned UCR accession number 433. Through further research, NAGPRA Program staff were able to determine that Cary Ranch is an archaeological site in Riverside County designated as CA-RIV-36. It is located in Cahuilla Valley and it known to the Cahuilla people as the historic Cahuilla village of Paukī. The site contains pictographs, rock shelters, midden deposits, and bedrock mortars. Potential human cremations have also been noted at the site. In 2025 representatives of the Cahuilla Band of Indians reviewed the collection and identified the objects as being Objects of Cultural Patrimony.

In 2022, the UCR NAGPRA Program staff discovered a small collection of items in the UCR Archaeological collections with a note reading “DC 5/70, Barley-Jed Kelly Site, Garner Valley, above Barley on way to Mines”. The materials include 1 mano, 1 broken mano fragment, and 2 pieces of geological material. UCR NAGPRA Program staff could not find any records in the UCR Archaeological Research Unit files that described how the materials came to be at UCR, but the collection was assigned UCR accession number 461. An additional note with the mano read, “Riv. Co. Kenworthy Co Rd. 100' from Hway 71 listed on ASA site sheet”. Further research into the collection determined that the note was referring to the old mining town of Kenworthy in Garner Valley, Riverside County, California. This area is known to the Cahuilla people as being part of their ancestral landscape and was used particularly as part of their summer range. In 2025 representatives of the Cahuilla Band of Indians reviewed the collection and identified the objects as being Objects of Cultural Patrimony.

Determinations

The University of California, Riverside has determined that:

• The 19 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Cahuilla Band of Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: November 19, 2025.
Melanie O'Brien,
Manager, National NAGPRA Program.

[FR Doc. 2025-22908 Filed 12-15-25; 8:45 am]

BILLING CODE 4312-52-P